DEPARTMENT OF AGRICULTURE

Agricultural Marketing Service

[Doc. No. AMS-FGIS-24-0055]

Grain Inspection Advisory Committee Meeting

AGENCY: Agricultural Marketing Service, USDA.

ACTION: Notice of public meeting.

SUMMARY: In accordance with the Federal Advisory Committee Act, as amended, this notice announces an upcoming meeting of the Grain Inspection Advisory Committee (Committee). The Committee meets no less than once annually to advise the Secretary of Agriculture on the programs and services delivered by the Agricultural Marketing Service (AMS) under the U.S. Grain Standards Act. Recommendations by the Committee help AMS meet the needs of its customers, who operate in a dynamic and changing marketplace.

DATES: An in-person meeting will be held on October 29, 2024, from 8:30 a.m. to 5 p.m. central and on October 30, 2024, from 8:30 a.m. to 12 p.m. central. The meeting will be broadcast virtually.

Written Comments: Any member of the public may file written comments with the Committee before or within 15 days after the date on which the meeting concludes. Comments should be submitted via email to Kendra.C.Kline@usda.gov. The Committee will consider comments submitted on or before 11:59 p.m. ET on October 18, 2024, prior to the meeting. Comments submitted after this date will be provided to the Committee, but the Committee may not have adequate time to consider those comments prior to the meeting. Comments submitted after the conclusion of the meeting will be posted on the public website.

Oral Comments: The Committee is providing the public an opportunity to present oral comments and will accommodate as many individuals and organizations as time permits. Persons or organizations wishing to make oral comments must pre-register by 11:59 p.m. ET, October 18, 2024, and may only register for one speaking slot.

Instructions for registering and participating in the meeting can be obtained by contacting the person listed in the FOR FURTHER INFORMATION CONTACT section by or before the deadline.

ADDRESSES: The Committee meeting will take place at the AMS National Grain Center, 10383 N Ambassador Drive, Kansas City, Missouri 64153. The meeting will also be virtually accessible. Meeting information can be found at: https://www.ams.usda.gov/about-ams/facas-advisory-councils/giac.

FOR FURTHER INFORMATION CONTACT: Kendra Kline by phone at (202) 690-2410 or by email at Kendra.C.Kline@usda.gov.

SUPPLEMENTARY INFORMATION: The purpose of the Committee is to provide advice to AMS with respect to the implementation of the U.S. Grain Standards Act (7 U.S.C. 71-87k). Information about the Committee is available on the AMS website at https://www.ams.usda.gov/about-ams/facas-advisory-councils/giac.

The agenda for the upcoming meeting will include general program updates, presentations on cyber security and discussions about equipment equivalency, the container handbook, handbook reviews and industry engagement, technology in grain inspection, lab scales, phytosanitary issuance policy, and emerging grain export issues.

The meeting will be open to the public. Public participation will be limited to written statements and interested parties who have registered to present comments orally to the Committee.

The United States Department of Agriculture prohibits discrimination in all its programs and activities based on race, color, national origin, religion, sex, gender identity (including gender expression), sexual orientation, disability, age, marital status, family/parental status, income derived from a public assistance program, political beliefs, or reprisal or retaliation for prior civil rights activity, in any program or activity conducted or funded by USDA (not all bases apply to all programs).

Equal opportunity practices, in accordance with USDA policies, will be followed in all membership appointments to the Committee. To ensure that the recommendations of the Committee have taken into account the needs of the diverse groups served by the Department, membership shall include, to the extent practicable, individuals with demonstrated ability to represent the many communities, identities, races, ethnicities, backgrounds, abilities, cultures, and beliefs of the American people, including underserved communities. Remedies and complaint filing deadlines vary by program or incident.

Persons with disabilities who require alternative means of communication of program information or related accommodations should contact Kendra Kline at the telephone number or email listed above.

Dated: September 30, 2024.
Cikena Reid,
USDA Committee Management Officer.

[FR Doc. 2024-22904 Filed 10-3-24; 8:45 am]

BILLING CODE 3410-02-P